FEDERAL ACCOUNTING STANDARDS ADVISORY BOARD

Notice of Issuance of Statement of Federal Financial Accounting Standard 36, Reporting Comprehensive Long-Term Fiscal Projections for the U.S. Government

AGENCY: Federal Accounting Standards Advisory Board.

ACTION: Notice.

Board Action: Pursuant to 31 U.S.C. 3511(d), the Federal Advisory Committee Act (Pub. L. 92-463), as amended, and the FASAB Rules of Procedure, as amended in April, 2004, notice is hereby given that the Federal Accounting Standards Advisory Board (FASAB) has issued Statement of Federal Financial Accounting Standard 36, Reporting Comprehensive Long-Term Fiscal Projections for the U.S. Government.

The standard is available on the FASAB home page http://www.fasab.gov/standards.html. Copies can be obtained by contacting FASAB at (202) 512-7350.

FOR FURTHER INFORMATION CONTACT: Wendy Payne, Executive Director, at (202) 512-7350.

Authority: Federal Advisory Committee Act, Public Law 92-463.

Dated: September 29, 2009.
Charles Jackson,
Federal Register Liaison Officer.

[FR Doc. E9-23816 Filed 10-1-09; 8:45 am]

BILLING CODE 1610-02-P